DEPARTMENT OF COMMERCE

National Oceanic and Atmospheric Administration

[RTID 0648-XE505]

Marine Mammals; File No. 28233

AGENCY: National Marine Fisheries Service (NMFS), National Oceanic and Atmospheric Administration (NOAA), Commerce.

ACTION: Notice; receipt of application.

SUMMARY: Notice is hereby given that the Clearwater Marine Aquarium, 249 Windward Passage, Clearwater, FL 33767 (Responsible Party: James Powell, Ph.D.), has applied in due form for a permit to import up to five adult male bottlenose dolphins (Tursiops truncatus) from Attica Zoological Park in Athina, Greece, to the Clearwater Marine Aquarium for public display.

DATES: Written comments must be received on or before February 3, 2025.

ADDRESSES: The application and related documents are available online at https://www.fisheries.noaa.gov/action/permit-application-import-5-bottlenose-dolphins-file-no-28233-clearwater-marine-aquarium.

You may submit comments, identified by NOAA-NMFS-2024-0140, by any of the following methods:

• Electronic Submission: Submit electronic public comments via the Federal e-Rulemaking Portal www.regulations.gov. To submit comments via the e-Rulemaking Portal, enter NOAA-NMFS-2024-0140 in the keyword search. Locate the document you wish to comment on from the resulting list and click on the “Comment Now” icon on the right of that line.

• Mail: Comments on the application should be addressed to: Permits and Conservation Division, Office of Protected Resources, NMFS, 1315 East-West Highway, Room 13705, Silver Spring, MD 20910; ATTN: Jolie Harrison, Chief, Permits and Conservation Division.

Instructions: Comments must be submitted by one of the above methods. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word, Excel, or Adobe PDF file formats only.

Those individuals requesting a public hearing should submit a written request to the Chief, Permits and Conservation Division via one of the methods listed above. The request should set forth the specific reasons why a hearing on this amendment would be appropriate.

FOR FURTHER INFORMATION CONTACT: Jennifer Skidmore or Courtney Smith, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216).

The applicant is proposing to import up to five adult male bottlenose dolphins from the Attica Zoological Park in Athina, Greece, to the Clearwater Marine Aquarium for public display purposes. The subject dolphins are between the ages of 11 and 24 years and were all captive-born to individuals with multiple origins, including the southeastern United States, Cuba, the Russian Federation, and the Black Sea. The applicant has identified three of the animals as common bottlenose dolphins (Tursiops truncatus) and two as Black Sea bottlenose dolphins (Tursiops truncatus ponticus). The requested duration of the permit is 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 16, 2024.
Julia M. Harrison,
Chief, Permits and Conservation Division, Office of Protected Resources, National Marine Fisheries Service.

[FR Doc. 2024-30378 Filed 12-19-24; 8:45 am]

BILLING CODE 3510-22-P